DEPARTMENT OF COMMERCE

National Oceanic and Atmospheric Administration

[I.D. 022101B]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Research Steering Committee and Red Crab Committee in March, 2001 to consider actions affecting New England fisheries in the exclusive economic zone (EEZ). Recommendations from these groups will be brought to the full Council for formal consideration and action, if appropriate.

DATES: The meetings will be held between Friday, March 9, 2001, and Tuesday, March 13, 2001. See SUPPLEMENTARY INFORMATION for specific dates and times.

ADDRESSES: The meetings will be held in Peabody, MA and New London, CT. See SUPPLEMENTARY INFORMATION for specific locations.

FOR FURTHER INFORMATION CONTACT: Paul J. Howard, Executive Director, New England Fishery Management Council; (978) 465-0492.

SUPPLEMENTARY INFORMATION:

Meeting Dates and Agendas

Friday, March 9, 2001, 9:30 a.m.—Research Steering Committee

Location: Holiday Inn, One Newbury Street, Route 1, Peabody, MA 01960; telephone: (978) 535-4600

The agenda will include discussion and development of a coordination mechanism between the Research Steering Committee and the industry-based survey (and related projects), cod tagging and bycatch/discard/conservation engineering programs currently under consideration. The committee also will discuss mechanisms for future funding of regional research efforts.

Tuesday, March 13, 2001, 1 p.m. to 5 p.m.—Red Crab Committee Meeting

Location: Radisson Hotel, 35 Governor Winthrop Boulevard, New London, CT 06320; telephone: (860) 443-7000.

The committee will hear a report from the Red Crab Plan Development Team. The committee will discuss the goals and objectives for the Red Crab Fishery Management Plan (FMP) and will begin to identify the types of management measures and alternatives to be considered in the development of the FMP.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: February 21, 2001.
Richard W. Surdi,
Acting Director, Office of Sustainable Fisheries, National Marine Fisheries Service.

[FR Doc. 01-4693 Filed 2-26-01; 8:45 am]

BILLING CODE 3510-22-S